DEPARTMENT OF AGRICULTURE

Farm Service Agency

Information Collection; Disaster Assistance (General)

AGENCY: Farm Service Agency, USDA.

ACTION: Notice; request for comment.

SUMMARY: In accordance with the Paperwork Reduction Act of 1995, the Farm Service Agency (FSA) is seeking comments from all interested individuals and organizations on the extension and revision of a currently approved information collection in support of Disaster Assistance programs. The information collection is needed to identify disaster areas and establish eligibility for both primary counties and those counties contiguous to such counties for certain assistance from FSA. The total burden hours have been revised to reflect the number of Secretarial requests for natural disaster assistance during the 2013 fiscal year.

DATES: We will consider comments that we receive by February 10, 2014.

ADDRESSES: We invite you to submit comments on this notice. In your comments, include date, volume, and page number of this issue of the Federal Register. You may submit comments by any of the following methods:

• Federal eRulemaking Portal: Go to: www.regulations.gov. Follow the online instructions for submitting comments.

• Mail: Dan McGlynn, Acting Director, Production, Emergencies and Compliance Division, Farm Service Agency, USDA, Mail Stop 0517, 1400 Independence Avenue SW., Washington, DC 20250-0517.You may also send comments to the Desk Officer for Agriculture, Office of Information and Regulatory Affairs, Office of Management and Budget, Washington, DC 20503. Copies of the information collection may be requested by contacting Dan McGlynn at the above addresses.

FOR FURTHER INFORMATION CONTACT: Steve Peterson, Branch Chief, Disaster Assistance Branch, (202) 720-7641.

SUPPLEMENTARY INFORMATION:

Description of Information Collection

Title: Disaster Assistance Program (General).

OMB Number: 0560-0170.

Expiration Date of Approval: 04/30/2014.

Type of Request: Extension with revision.

Abstract: The information collection is necessary for FSA to effectively administer the regulations relating to identifying disaster areas for the purpose of making emergency loans available. Emergency Loans are available to qualified and eligible farmers and ranchers who have suffered eligible weather-related physical or production losses or both in such areas. Before emergency loans can become available, the information needs to be collected to determine if the disaster areas meet the criteria of having a qualifying loss in order to be considered as an eligible county.

Type of Respondents: Farmers and ranchers.

Estimate of Average Time To Respond: 0.483 hour per response.

Estimated Number of Respondents: 926.

Estimated Number of Report Filed per Respondent: 1.

Estimated Total Annual Number of Responses: 1015.

Estimated Total Annual Burden hours: 489.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected; and

(4) Minimize the burden of the collection of information on those who are to respond, including through the use of appropriate automated, electronic, mechanical, or other technological collection techniques or other forms of information technology.

All responses to this notice, including name and addresses when provided, will be summarized and included in the request for OMB approval. All comments will also become a matter of public record.

Signed on December 3, 2013.
Candace Thompson,
Acting Administrator, Farm Service Agency.

[FR Doc. 2013-29512 Filed 12-10-13; 8:45 am]

BILLING CODE 3410-05-P